DEPARTMENT OF HEALTH AND HUMAN SERVICES

Administration for Children and Families

[OMB No. 0970-0278]

Proposed Information Collection Activity; Family Reunification Packet for Sponsors of Unaccompanied Children

AGENCY: Office of Refugee Resettlement, Administration for Children and Families, HHS.

ACTION: Request for public comment.

SUMMARY: The Office of Refugee Resettlement (ORR), Administration for Children and Families (ACF), U.S. Department of Health and Human Services (HHS), is inviting public comments on revisions to an approved information collection. The request consists of several forms that allow the Unaccompanied Children (UC) Program to assess the suitability of potential sponsors for UC.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: ORR proposes the following revisions to this information collection:

• Authorization for Release of Information—

○ ORR replaced the term “minor” with “child.”

○ ORR removed the Alien Registration Number field, since it is not required for background checks.

○ ORR removed reference to “past and present immigration status,” since that information will no longer be collected in the Family Reunification application.

• Family Reunification Application—

○ ORR replaced the term “minor” with “child.”

○ Proof of Identity—ORR added clarification that individuals under the age of 21 may use the ORR Verification of Release form with a photograph to meet this requirement.

○ Proof of Immigration Status or U.S. Citizenship—ORR removed the requirement that potential sponsors provide documentation verifying their immigration status or U.S. citizenship. ORR no longer uses this information as a criterion to determine when a sponsor care plan is required; therefore, it is no longer necessary to collect this information.

○ Proof of Address—ORR also removed the phrase “dated within the last two months” that appears after the current lease and current mortgage line items, because it is not applicable to those two acceptable forms of documentation.

○ Burden Estimate—ORR increased the average burden hours per response from 0.75 hours to a more accurate estimate of 1.0 hour.

• Letter of Designation for Care of a Minor—

○ ORR replaced the term “minor” with “child.”

○ ORR also increased the average burden hours per response from 0.5 hours to a more accurate estimate of 0.75 hours.

Respondents: Potential sponsors of UC.

Annual Burden Estimates:

Respondents:

Instrument title | Annual total number of respondents | Annual total number of responses per respondent | Average burden hours per response | Annual total burden hours
Authorization for Release of Information (Forms FRP-2 & FRP-2s) | 81,532 | 1 | 0.50 | 40,766
Family Reunification Application (Forms FRP-3 & FRP-3s) | 122,950 | 1 | 1.00 | 122,950
Fingerprinting Instructions (Forms FRP-7 & FRP-7s) | 81,532 | 1 | 1.25 | 101,915
Letter of Designation for Care of Minor (Forms FRP-9 & FRP-9s) | 41,181 | 1 | 0.75 | 30,886

Estimated Annual Burden Total: 296,517.

Record Keepers:

Instrument title | Annual total number of record keepers | Annual total number of responses per record keeper | Average burden hours per response | Annual total burden hours
Authorization for Release of Information (Forms FRP-2 & FRP-2s) | 235 | 347 | 0.25 | 20,386
Family Reunification Application (Forms FRP-3 & FRP-3s) | 235 | 523 | 0.25 | 30,726
Fingerprinting Instructions (Forms FRP-7 & FRP-7s) | 235 | 347 | 1.00 | 81,545
Letter of Designation for Care of Minor (Forms FRP-9 & FRP-9s) | 235 | 175 | 0.25 | 10,281

Estimated Annual Burden Hours Total: 142,938.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2022-05957 Filed 3-21-22; 8:45 am]

BILLING CODE 4184-45-P